DEPARTMENT OF HOMELAND SECURITY

Coast Guard

[Docket No. USCG-2023-0395]

Great Lakes Pilotage Advisory Committee Meeting; September 2023 Meeting

AGENCY: U.S. Coast Guard, Department of Homeland Security.

ACTION: Notice of Federal advisory committee meeting.

SUMMARY: The Great Lakes Pilotage Advisory Committee (Committee) will meet in Sault Saint Marie, Michigan to discuss matters relating to Great Lakes Pilotage, including review of proposed Great Lakes Pilotage regulations and policies. The meeting will be open to the public.

DATES:

Meeting: The Committee will meet on Thursday, September 7, 2023, from 8 a.m. to 5:30 p.m. Eastern Daylight Time (EDT). Please note that this meeting may adjourn early if the Committee has completed its business.

Comments and supporting documentations: To ensure your comments are received by Committee members before the meeting, submit your written comments no later than August 31, 2023.

ADDRESSES: The meeting will be held at the Cisler Conference Center of the Lake Superior State University (LSSU), 650 W Easterday Avenue, Sault Ste. Marie, MI 49783.

Pre-registration Information: Pre-registration is not required for access to the meeting.

The Great Lakes Pilotage Advisory Committee is committed to ensuring all participants have equal access regardless of disability status. If you require reasonable accommodation due to a disability to fully participate, please email Mr. Francis Levesque at Francis.R.Levesque@uscg.mil. or call (571) 308-4941 as soon as possible.

Instructions: You are free to submit comments at any time, including orally at the meeting, but if you want Committee members to review your comment before the meeting, please submit your comments no later than August 31, 2023. We are particularly interested in comments on the topics in the “Agenda” section below. We encourage you to submit comments through the Federal eRulemaking Portal at: https://www.regulations.gov. If your material cannot be submitted using https://www.regulations.gov., email the individual in the FOR FURTHER INFORMATION CONTACT section of this document for alternate instructions. You must include the docket number USCG-2023-0395. Comments received will be posted without alteration at https://www.regulations.gov including any personal information you provided. You may wish to view the Privacy and Security Notice found via link on the homepage of https://www.regulations.gov. For more about the privacy and submissions in response to this document, see DHS's eRulemaking System of Records notice (85FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions. Additionally, if you go to the online docket and sign-up for email alerts, you will be notified when comments are posted.

FOR FURTHER INFORMATION CONTACT: Mr. Francis Levesque, Alternate Designated Federal Officer of the Great Lakes Pilotage Advisory Committee, telephone (571) 308-4941 or email Francis.R.Levesque@uscg.mil.

SUPPLEMENTARY INFORMATION: Notice of this meeting is in compliance with the Federal Advisory Committee Act (Pub. L. 117-286, 5 U.S.C. ch. 10). The Committee is established under the authority of 46 U.S.C. 9307 and makes recommendations to the Secretary of Homeland Security and the U.S. Coast Guard on matters relating to Great Lakes pilotage, including review of proposed Great Lakes pilotage regulations and policies.

Agenda

The Great Lakes Pilotage Advisory Committee will meet on Thursday, September 7, 2023, to review, discuss, deliberate and formulate recommendations, as appropriate on the following topics:

1. Great Lakes Pilotage Advisory Committee Meeting Practices and Procedures.

2. Staffing Model.

3. Winter Navigation.

4. Pilots Providing ETA to Change Points.

5. Ratemaking Methodology.

6. Great Lakes Pilotage and American Pilots Association Best Practices.

7. 2024 Annual Rulemaking Update.

8. Projects and Current Staffing.

9. 2013 Memorandum of Understanding between U.S. Coast Guard and Canadian Great Lakes Pilotage Authority.

10. Double Pilotage and Daytime Only Navigation.

11. Expense and Revenue Reports for Rulemaking.

12. Public Comments.

A copy of all meeting documentation will be available at https://www.dco.uscg.mil/Our-Organization/Assistant-Commandant-for-Prevention-Policy-CG-5P/Marine-Transportation-Systems-CG-5PW/Office-of-Waterways-and-Ocean-Policy/Great-Lakes-Pilotage-Advisory-Committee/ by September 1, 2023. Alternatively, you may contact Mr. Francis Levesque as noted in the FOR FURTHER INFORMATION CONTACT section above.

Public comments or questions will be taken throughout the meeting as the Committee discusses the issues and prior to deliberations and voting. There will also be a public comment period at the end of the meeting. Speakers are requested to limit their comments to 5 minutes. Contact the individual listed in the FOR FURTHER INFORMATION CONTACT section above, to register as a speaker.

Dated: July 11, 2023.
Michael D. Emerson,
Director, Marine Transportation Systems.

[FR Doc. 2023-15048 Filed 7-14-23; 8:45 am]

BILLING CODE 9110-04-P